GENERAL SERVICES ADMINISTRATION

Office of Small Business Utilization; Small Business Advisory Committee; Notification of a Public Meeting of the Small Business Advisory Committee

AGENCY: Office of Small Business Utilization, GSA.

ACTION: Notice.

SUMMARY: The General Services Administration (GSA) is announcing a public meeting of the GSA Small Business Advisory Committee (the Committee).

DATES: The meeting will take place February 21-22. The meeting will begin 1 p.m. Tuesday February 21 and conclude no later than 5 p.m. that day. The meeting will resume 9 a.m. Wednesday February 22 and conclude no later than 3 p.m. that day. The Committee will accept oral public comments at this meeting and has reserved a total of sixty minutes for this purpose. Members of the public wishing to reserve speaking time must contact Denis Peck in writing at: denis.peck@gsa.gov or by fax at (202) 208-5938, no later than one week prior to the meeting.

ADDRESS: GSA Central Office Auditorium, 1800 F Street, NW., Washington, DC 20405.

FOR FURTHER INFORMATION CONTACT: Denis Peck, Room 6021, GSA Building, 1800 F Street, NW., Washington, DC 20405 (202) 501-1021 or e-mail at denis.peck@gsa.gov.

SUPPLEMENTARY INFORMATION: This notice is published in accordance with the provisions of the Federal Advisory Committee Act (FACA) (Pub. L. 92-463).

Background:

The purpose of this meeting is to develop the topics generated during the previous meeting September 1, 2005; to receive briefings from small business topical experts, and to hear from interested members of the public on proposals to improve GSA's small business contracting performance.

Dated: January 13, 2006.
Felipe Mendoza,
Associate Administrator, Office of Small Business Utilization, General Services Administration.

[FR Doc. E6-1525 Filed 2-3-06; 8:45 am]

BILLING CODE 6820-34-S